DEPARTMENT OF THE INTERIOR

Bureau of Land Management

[LLNVS01000. L51010000.PQ0000. LVRWF1201670; N-90788; MO# 4500110426]

Notice of Intent To Prepare an Environmental Impact Statement and a Notice of Segregation for the Proposed Yellow Pine Solar Project, Clark County, NV

AGENCY: Bureau of Land Management, Department of the Interior.

ACTION: Notice of intent.

SUMMARY: As requested by Yellow Pine Solar, LLC, and in compliance with the National Environmental Policy Act of 1969, as amended (NEPA), the BLM Las Vegas Field Office will prepare an Environmental Impact Statement (EIS) for a proposed solar project located approximately 10 miles southeast of Pahrump, Nevada, and approximately 32 miles west of Las Vegas, Nevada. Publication of this Notice initiates the scoping process and opens a 90-day public comment period. Publication of this Notice also serves to segregate the public lands from appropriation under the public land laws, including location and entry under the Mining Law, but not disposal under the Mineral Leasing Act or the Materials Act, subject to valid existing rights. This Notice initiates the public scoping process and the segregation.

DATES: Comments on issues may be submitted in writing until August 30, 2018. The date(s) and location(s) of any scoping meetings will be announced at least 15 days in advance through local news media and the BLM website at: https://goo.gl/gNbjnz. Comments must be received prior to the close of the scoping period or 15 days after the last public meeting, whichever is later, to be included in the Draft EIS. The BLM will provide additional opportunities for public participation upon publication of the Draft EIS.

ADDRESSES: Submit comments related to the project by any of the following methods:

• Email: blm_nv_sndo_yellowpine@blm.gov

• Fax: (702) 515-5073, attention Nicollee Gaddis

• Mail: BLM, Las Vegas Field Office, Attn: Nicollee Gaddis, 4701 North Torrey Pines Drive, Las Vegas, NV 89130-2301

FOR FURTHER INFORMATION CONTACT: For further information and/or to have your name added to the mailing list, send requests to: Nicollee Gaddis, Renewable Energy Project Manager, at telephone (702) 515-5136; or address 4701 North Torrey Pines Drive, Las Vegas, NV 89130-2301; or email blm_nv_snd0_yellowpine@blm.gov. Persons who use a telecommunications device for the deaf (TDD) may call the Federal Relay Service (FRS) at 1-800-877-8339 to contact the above individual during normal business hours. The FRS is available 24 hours a day, 7 days a week, to leave a message or question with the above individual. You will receive a reply during normal business hours.

SUPPLEMENTARY INFORMATION: In 2016, Yellow Pine Solar, LLC requested an amended right-of-way (ROW) authorization for the construction, operation, maintenance, and decommissioning of a 250-megawatt (MW) photovoltaic (PV) power plant that would provide renewable energy to Nevada's electrical transmission grid. In 2011, the original ROW application was filed by Boulevard Associates, LLC, a subsidiary of NextEra Energy Resources, LLC, and the project is thus not subject to the decisions adopted by the 2012 Western Solar Plan, the BLM's Record of Decision (ROD) for Solar Energy Development in Six Southwestern States (BLM 2012).

The proposed project includes 9,290 acres of lands managed by the BLM. The project is located in Clark County at the intersection of Nevada State Route 160 and Tecopa Road, approximately 10 miles southeast of Pahrump, Nevada and approximately 32 miles west of Las Vegas.

The purpose of the public scoping process is to determine relevant issues that will influence the scope of the environmental analysis, including alternatives, and guide the process for developing the EIS. At present, the BLM has identified the following preliminary issues: Threatened and endangered species, cultural resources, visual resources, surface water, recreation, socioeconomic effects, and cumulative impacts. The congressionally designated Old Spanish National Historic Trail crosses the area. Habitat for the federally listed desert tortoise is in this proposal area.

The BLM will consult with Native American tribes on a government-to-government basis in accordance with applicable laws, regulations, Executive Order 13175, and other policies. Tribal concerns will be given due consideration, including any impacts on Indian Trust assets. Federal, State, and local agencies, along with other stakeholders that may be interested or affected by the BLM's decision on this project, are invited to participate in the scoping process and, if eligible, may request or be requested by the BLM to participate as a cooperating agency.

Before including your address, phone number, email address, or other personal identifying information in your comment, you should be aware that your entire comment—including your personal identifying information—may be made publicly available at any time. While you can ask us in your comment to withhold your personal identifying information from public review, we cannot guarantee that we will be able to do so.

Segregation of the Public Lands

In 2013, the BLM published a Final Rule, Segregation of Lands—Renewable Energy (78 FR 25204), that amended the regulations found in 43 CFR 2090 and 2800. The provisions of the Final Rule allow the BLM to temporarily segregate public lands within a solar or wind application area from the operation of the public land laws, including the Mining Law, by publication of a Federal Register Notice. The BLM uses this temporary segregation authority to preserve its ability to approve, approve with modifications, or deny proposed ROWs, and to facilitate the orderly administration of the public lands. This temporary segregation is subject to valid existing mining claims located before this segregation notice. Licenses, permits, cooperative agreements, or discretionary land use authorizations of a temporary nature which would not impact lands identified in this notice may be allowed with the approval of an authorized officer of the BLM during the segregation period.

The lands segregated under this notice are legally described as follows:

Mount Diablo Meridian, Nevada

T. 21 S., R. 55 E.,

Sec. 31, SE¼NE¼ and E½SE¼;

Sec. 32, S½NE¼, S½NW¼, and S½;

Sec. 33, S½NE¼, S½NW¼, and S½;

Sec. 34, S½NW¼, SW¼, and W½SE¼.

T. 22 S., R. 55 E.,

Sec. 1, W½SW¼ and SE¼SW¼;

Sec. 2, SW¼NE¼, S½NW¼, and S½;

Sec. 3, lots 2 thru 4, S½NE¼, S½NW¼, and S½;

Secs. 4 and 5;

Sec. 6, lot 1, SE¼NE¼, and E½SE¼;

Sec. 7, E½NE¼;

Sec. 8, N½;

Sec. 9, N½;

Secs. 10 thru 14.

T. 22 S., R. 56 E.,

Sec. 7, lots 3 and 4, E½SW¼;

Sec. 17, SW¼NE¼, S½NW¼, and S½;

Sec. 18.

As provided in the Final Rule, the segregation of lands in this Notice will not exceed 2 years from the date of publication unless extended for up to 2 additional years, through publication of a new notice in the Federal Register. Termination of the segregation occurs on the earliest of the following dates: Upon issuance of a decision by the authorized officer granting, granting with modifications, or denying the application for a ROW; automatically at the end of the segregation; or upon publication of a Federal Register Notice of termination of the segregation.

Upon termination of segregation of these lands, all lands subject to this segregation will automatically reopen to appropriation under the public land laws.

(Authority: 40 CFR 1501.7, 43 CFR 2091.3-1(e), and 43 CFR 2804.25(f))

Vanessa L. Hice,
Acting Las Vegas Field Manager.

[FR Doc. 2018-10961 Filed 5-31-18; 8:45 am]

BILLING CODE 4310-HC-P